DEPARTMENT OF TRANSPORTATION

Federal Aviation Administration

14 CFR Part 39

[Docket No. FAA-2010-0281; Directorate Identifier 2009-NM-184-AD; Amendment 39-16390; AD 2010-16-13]

RIN 2120-AA64

Airworthiness Directives; Airbus Model A300 B4-600, B4-600R, and F4-600R Series Airplanes, and Model C4-605R Variant F airplanes (Collectively Called A300-600 series airplanes); and A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Surface defects were visually detected on the rudder of an [Airbus] A319 and an A321 in-service aeroplane. Investigation has determined that the defects reported on both rudders corresponded to areas that had been reworked in production. The investigation confirmed that the defects were the result of de-bonding between the skin and honeycomb core. Such reworks were also performed on some rudders fitted on A310 and A300-600 aeroplanes.

An extended de-bonding, if not detected and corrected, may degrade the structural integrity of the rudder. The loss of the rudder leads to degradation of the handling qualities and reduces the controllability of the aeroplane.

* * * * *

We are issuing this AD to require actions to correct the unsafe condition on these products.

DATES: This AD becomes effective September 17, 2010. The Director of the Federal Register approved the incorporation by reference of certain publications listed in this AD as of September 17, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on April 2, 2010 (75 FR 16685). That NPRM proposed to correct an unsafe condition for the specified products. The MCAI states:

Surface defects were visually detected on the rudder of an [Airbus] A319 and an A321 in-service aeroplane. Investigation has determined that the defects reported on both rudders corresponded to areas that had been reworked in production. The investigation confirmed that the defects were the result of de-bonding between the skin and honeycomb core. Such reworks were also performed on some rudders fitted on A310 and A300-600 aeroplanes.

An extended de-bonding, if not detected and corrected, may degrade the structural integrity of the rudder. The loss of the rudder leads to degradation of the handling qualities and reduces the controllability of the aeroplane.

To address this unsafe condition [this EASA AD] requires inspections of specific areas and, depending on findings, the application of corrective actions for those rudders where production reworks have been identified.

This * * * [EASA] AD * * * [also] requires for the vacuum loss hole restoration:

—A local ultrasonic inspection for reinforced area instead of the local thermographic inspection, which is maintained for non-reinforced areas, and

—additional work performance for rudders on which this thermographic inspection has been performed in the reinforced area.

The inspections include vacuum loss inspections and elasticity laminate checker inspections for defects including de-bonding between the skin and honeycomb core of the rudder, and ultrasonic inspections for rudders on which temporary restoration with resin or permanent vacuum loss hole restoration has been performed. The corrective action is contacting the manufacturer for repair instructions and doing the repair. We are considering similar rulemaking action on Model A319 and A321 airplanes. You may obtain further information by examining the MCAI in the AD docket.

Comments

We gave the public the opportunity to participate in developing this AD. We considered the comments received. FedEx comments that the proposed compliance times fit within their planned scheduled maintenance check.

Request for Clarification Regarding the Requirement To Contact Airbus for New Instructions for Rudders Installed on Other Airplanes

American Airlines requests clarification concerning the requirement to contact Airbus for new instructions if rudders are installed on other airplanes. American Airlines states that the NPRM identifies rudders by rudder serial number only and does not require verification of airplane serial number; however, Airbus All Operators Telexes (AOT) A310-55A2048 and A300-55A6047, both Revision 02, both dated October 12, 2009, request contacting Airbus for additional instructions for an affected rudder if the data in Table 1 of the referenced Technical Disposition TD/K4/S1/27583/2009, Issue E, does not match the airplane. American Airlines states that since the rudder is a removable structural component, it may be moved to a new airplane. American Airlines states that since inspections are required only on the rudder, they agree with the NPRM to not include the airplane serial numbers in Table 1 of the NPRM as there is no value in obtaining new instructions simply because the rudder has been installed on a different airplane.

We agree that clarification is needed to explain the requirement described previously. In the NPRM, we referred to the Airbus AOTs for accomplishment of the inspections. We have added notes to paragraphs (g) and (h) of this AD to state that verification of the airplane serial numbers is not required.

Request To Change Compliance Time

American Airlines requests that the compliance time for the initial inspections (specified in the NPRM as “within 8 months of the effective date of the AD”) be revised to represent 8 months in-service time. American Airlines' fleet of Model A300-600 series airplanes has been retired from active service and is in long-term storage. American Airlines states that previous investigations of the Model A300-600/A310 series airplanes rudders suggest that disbonding damage grows under vacuum air-ground cycling and that a previous study on a Model A310 airplane had shown no reduction in stiffness due to age. American Airlines suggests that it is unlikely that additional disbonding or degradation will occur on the affected rudders in storage, therefore requests that the compliance time represent 8 months in-service time. American Airlines states that this will allow for more efficient planning and will relieve the burden of obtaining special flight permits to move re-activated airplanes to facilities where the inspections are to be performed.

We agree to revise the proposed compliance time for the reason stated by the commenter. We have added a compliance time of within 840 flight hours after the effective date of this AD to paragraphs (g)(1), (g)(2), (g)(4), (g)(6), (h)(1), (h)(2), (h)(4), and (h)(6) of this AD. We have determined that 840 flight hours represents approximately 8 months given average utilization.

Request To Include Costs of Special Equipment

American Airlines requests that the cost of the elasticity laminate checker and the vacuum loss inspection equipment be included in the proposed cost estimate. American Airlines considers the equipment for both inspections to be special tooling and the inspection methods to be of limited application.

We agree that the cost of this special equipment should be included in the cost estimate specified in this AD. The Cost Estimate section of the final rule has been changed accordingly.

Request To Remove Reporting Requirement for Negative Responses

American Airlines requests that the reporting requirement for a negative response be removed from the NPRM. American Airlines states that Airbus All Operators Telexes A310-55A2048 and A300-55A6047, both Revision 02, both dated October 12, 2009, request reporting both positive and negative findings. American Airlines states that reporting negative findings has no effect on airplane safety and merely adds administrative burden to the operator, which could create compliance issues due to delays in the processing of paperwork.

We agree that negative responses need not be reported. We have removed the requirement to report if no defects are found from this AD (paragraphs (g)(11) and (h)(11) of the NPRM specified reporting if no defects are found).

Change to Cost of Compliance

We have revised the Costs of Compliance section of this AD. The work-hour estimate has been changed from 4 work-hours to 12 work-hours to match the work-hours specified in the service information, which increases the costs accordingly.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 194 products of U.S. registry. We also estimate that it will take about 12 work-hours per product to comply with the basic requirements of this AD. The average labor rate is $85 per work-hour. Tooling costs for each operator will cost about $24,602. There are three affected US operators. Based on these figures, we estimate the cost of this AD to the U.S. operators to be $197,880, or $1,020 per product, plus the tooling costs of $24,602 for each operator.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-16-13 Airbus: Amendment 39-16390. Docket No. FAA-2010-0281; Directorate Identifier 2009-NM-184-AD.

Effective Date

(a) This airworthiness directive (AD) becomes effective September 17, 2010.

Affected ADs

(b) None.

Applicability

(c) This AD applies to Airbus Model A300 B4-601, B4-603, B4-620, B4-622, B4-605R, B4-622R, F4-605R, F4-622R, and C4-605R Variant F airplanes; and Model A310-203, -204, -221, -222, -304, -322, -324, and -325 airplanes; certificated in any category; equipped with carbon fiber reinforced plastic rudders having part numbers and serial numbers listed in Table 1 of this AD.

Table 1—Rudder Information
Rudder part No. | Affected rudder Serial No. | Core density 24kg/m³
A554-71500-016-91 | HF-1017 | Yes.
A554-71500-016-91 | HF-1020 | No.
A554-71500-016-91 | HF-1059 | No.
A554-71500-016-91 | HF-1061 | No.
A554-71500-016-91 | HF-1064 | No.
A554-71500-014-00 | HF-1087 | Yes.
A554-71500-014-00 | HF-1119 | Yes.
A554-71500-016-00 | HF-1189 | Yes.
A554-71500-016-00 | HF-1203 | Yes.
A554-71500-016-00 | HF-1266 | Yes.
A554-71500-026-00 | TS-1405 | No.
A554-71710-000-00 | TS-2001 | No.
A554-71710-000-00 | TS-2004 | No.
A554-71710-000-00 | TS-2007 | No.
A554-71710-000-00 | TS-2009 | No.
A554-71710-000-00 | TS-2011 | No.
A554-71710-000-00 | TS-2012 | No.
A554-71710-000-00 | TS-2013 | No.
A554-71710-000-00 | TS-2014 | No.
A554-71710-000-00 | TS-2016 | No.
A554-71710-000-00 | TS-2017 | No.
A554-71710-000-00 | TS-2018 | No.
A554-71710-000-00 | TS-2020 | No.
A554-71710-000-00 | TS-2021 | No.
A554-71710-000-00 | TS-2022 | No.
A554-71710-000-00 | TS-2024 | No.
A554-71710-000-00 | TS-2025 | No.
A554-71710-000-00 | TS-2026 | No.
A554-71710-000-00 | TS-2028 | No.
A554-71710-000-00 | TS-2029 | No.
A554-71710-002-00 | TS-2031 | No.
A554-71710-002-00 | TS-2032 | No.
A554-71710-002-00 | TS-2035 | No.
A554-71710-002-00 | TS-2040 | No.
A554-71710-002-00 | TS-2041 | No.
A554-71710-002-00 | TS-2044 | No.
A554-71710-002-00 | TS-2046 | No.
A554-71710-004-00 | TS-2050 | No.
A554-71710-004-00 | TS-2056 | No.
A554-71710-004-00 | TS-2058 | No.
A554-71710-004-00 | TS-2060 | No.
A554-71710-004-00 | TS-2062 | No.
A554-71710-004-00 | TS-2065 | No.
A554-71710-004-00 | TS-2066 | No.
A554-71710-004-00 | TS-2074 | No.
A554-71710-004-00 | TS-2075 | No.
A554-71710-004-00 | TS-2076 | No.
A554-71710-004-00 | TS-2079 | No.

Subject

(d) Air Transport Association (ATA) of America Code 55: Stabilizers.

Reason

(e) The mandatory continuing airworthiness information (MCAI) states:

Surface defects were visually detected on the rudder of an [Airbus] A319 and an A321 in-service aeroplane. Investigation has determined that the defects reported on both rudders corresponded to areas that had been reworked in production. The investigation confirmed that the defects were the result of de-bonding between the skin and honeycomb core. Such reworks were also performed on some rudders fitted on A310 and A300-600 aeroplanes.

An extended de-bonding, if not detected and corrected, may degrade the structural integrity of the rudder. The loss of the rudder leads to degradation of the handling qualities and reduces the controllability of the aeroplane.

To address this unsafe condition [this EASA AD] requires inspections of specific areas and, depending on findings, the application of corrective actions for those rudders where production reworks have been identified. This * * * [EASA] AD * * * [also] requires for the vacuum loss hole restoration:

—A local ultrasonic inspection for reinforced area instead of the local thermographic inspection, which is maintained for non-reinforced areas, and

—Additional work performance for rudders on which this thermographic inspection has been performed in the reinforced area.

The inspections include vacuum loss inspections and elasticity laminate checker inspections for defects including de-bonding between the skin and honeycomb core of the rudder, and ultrasonic inspections for rudders on which temporary restoration with resin or permanent vacuum loss hole restoration has been performed. The corrective action is contacting the manufacturer for repair instructions and doing the repair. We are considering similar rulemaking action on Model A319 and A321 airplanes.

Compliance

(f) You are responsible for having the actions required by this AD performed within the compliance times specified, unless the actions have already been done.

Actions and Compliance

(g) For rudders with a honeycomb core density of 24 kg/m³, as identified in Table 1 of this AD, do the actions required in paragraphs (g)(1) through (g)(10) of this AD, in accordance with Airbus All Operators Telex (AOT) A310-55A2048 or A300-55A6047, both Revision 02, both dated October 12, 2009, as applicable.

Note 1: Verification of the airplane serial numbers is not required.

(1) In the reinforced location: Within 8 months or 840 flight hours after the effective date of this AD, whichever occurs later, do a vacuum loss inspection to detect defects including de-bonding.

(2) In the trailing edge location: Within 24 months or 840 flight hours after the effective date of this AD, whichever occurs later, do an elasticity laminate checker inspection to detect defects including de-bonding.

(3) Repeat the inspection required by paragraph (g)(2) of this AD two times at intervals not to exceed 4,500 flight cycles, but not fewer than 4,000 flight cycles from the last inspection.

(4) In other locations (lower rib/upper edge/leading edge/other locations): Within 8 months or 840 flight hours after the effective date of this AD, whichever occurs later, do an elasticity laminate checker inspection to detect defects including de-bonding.

(5) Repeat the inspection required by paragraph (g)(4) of this AD at intervals not to exceed 8 months from the last inspection.

(6) Within 24 months or 840 flight hours after the effective date of this AD, whichever occurs later, do a vacuum loss inspection on the other locations (lower rib/upper edge/leading edge/other locations) to detect defects including de-bonding.

(7) Accomplishment of the inspection required by paragraph (g)(6) of this AD terminates the initial and repetitive inspections required by paragraphs (g)(4) and (g)(5) of this AD.

(8) If any defect is found during any inspection required by paragraph (g)(1), (g)(2), (g)(4), or (g)(6) of this AD, before further flight, contact Airbus for repair instructions and do the repair.

(9) If no defects are found during any inspection required by paragraphs (g)(1) and (g)(6) of this AD, before further flight, restore the vacuum loss holes with temporary restoration with self-adhesive patches, temporary restoration with resin, or permanent restoration with resin and surface protection, and repeat the inspection required by paragraph (g)(3) of this AD at intervals not to exceed 4,500 flight cycles until permanent restoration is completed.

(10) If any defect is found during any inspection required by paragraphs (g)(1), (g)(2), (g)(4), and (g)(6) of this AD, at the applicable time specified in paragraph (g)(10)(i) or (g)(10)(ii) of this AD: Report the inspection results to Airbus SAS, SEER1/SEER2/SEER3, Customer Services, 1 Rond Point Maurice Bellonte, 31707 Blagnac Cedex, France; fax +33 (0) 5 61 93 28 73; or e-mail to

region1.StructureRepairSupport@airbus.com,

region2.StructureRepairSupport@airbus.com, or

region3.StructureRepairSupport@airbus.com.

(i) Inspections done before the effective date of this AD: Within 30 days after the effective date of this AD.

(ii) Inspections done on or after the effective date of this AD: Within 30 days after accomplishment of the inspection.

(h) For rudders not having a honeycomb core density of 24 kg/m³, as identified in Table 1 of this AD, do the actions required in paragraphs (h)(1) through (h)(10) of this AD, in accordance with Airbus AOT A310-55A2048 or AOT A300-55A6047, both Revision 02, both dated October 12, 2009, as applicable.

Note 2: Verification of the airplane serial numbers is not required.

(1) In the reinforced location: Within 8 months after the rudder has accumulated 13,000 flight cycles since first installation, or within 8 months after the effective date of this AD, or within 840 flight hours after the effective date of this AD; whichever occurs latest, do a vacuum loss inspection to detect defects including de-bonding.

(2) In the trailing edge location: Within 24 months after the rudder has accumulated 13,000 flight cycles since first installation, or within 24 months after the effective date of this AD, or within 840 flight hours after the effective date of this AD, whichever occurs latest, do an elasticity laminate checker inspection to detect defects including de-bonding.

(3) Repeat the inspection required by paragraph (h)(2) of this AD two times at intervals not to exceed 4,500 flight cycles, but not fewer than 4,000 flight cycles from the last inspection.

(4) In other locations (lower rib/upper edge/leading edge/other locations): Within 8 months after the rudder has accumulated 13,000 flight cycles since first installation, or within 8 months after the effective date of this AD, or within 840 flight hours after the effective date of this AD, whichever occurs latest; do an elasticity laminate checker inspection to detect defects including de-bonding.

(5) Repeat the inspection required by paragraph (h)(4) of this AD at intervals not to exceed 8 months from the last inspection.

(6) Within 24 months after the rudder has accumulated 13,000 flight cycles since first installation, or within 24 months after the effective date of this AD, or within 840 flight hours after the effective date of this AD, whichever occurs latest, do a vacuum loss inspection on the other locations (lower rib/upper edge/leading edge/other location) to detect defects including de-bonding.

(7) Accomplishment of the inspection required by paragraph (h)(6) of this AD terminates the initial and repetitive inspections required by paragraphs (h)(4) and (h)(5) of this AD.

(8) If any defect is found during any inspection required by paragraph (h)(1), (h)(2), (h)(4), or (h)(6) of this AD, before further flight, contact Airbus for repair instructions and do the repair.

(9) If no defects are found during the inspections required by paragraphs (h)(1) and (h)(6) of this AD, before further flight, restore the vacuum loss holes with the temporary restoration with self adhesive patches, temporary restoration with resin, or permanent restoration with resin and surface protection, and repeat the inspection required by paragraph (h)(3) of this AD at intervals not to exceed 4,500 flight cycles until permanent restoration is completed.

(10) If any defect is found during any inspection required by paragraphs (h)(1), (h)(2), (h)(4), and (h)(6) of this AD, at the applicable time specified in paragraph (h)(10)(i) or (h)(10)(ii) of this AD: Report the inspection results to Airbus SAS, SEER1/SEER2/SEER3, Customer Services, 1 Rond Point Maurice Bellonte, 31707 Blagnac Cedex, France; fax +33 (0) 5 61 93 28 73; or e-mail to

region1.StructureRepairSupport@airbus.com,

region2.StructureRepairSupport@airbus.com, or

region3.StructureRepairSupport@airbus.com.

(i) Inspections done before the effective date of this AD: Within 30 days after the effective date of this AD.

(ii) Inspections done on or after the effective date of this AD: Within 30 days after accomplishment of the inspection.

(i) Actions done before the effective date of this AD, in accordance with the service information listed in Table 2 of this AD, are acceptable for compliance with the requirements of paragraphs (g) and (h) of this AD for the areas inspected, for any rudder listed in Table 1 of this AD.

(j) Additional areas requiring inspection for all airplanes are defined in Airbus AOT A310-55A2048 or AOT A300-55A6047, both Revision 02, both dated October 12, 2009, as applicable. For these additional areas, do the actions required in paragraphs (g) and (h) of this AD, as applicable, at the times specified in those paragraphs. For all areas, do the repetitive inspections required by paragraphs (g) and (h) of this AD as applicable at the times specified in those paragraphs.

Table 2—Credit Service Information
Airbus AOT— | Revision— | Dated—
A300-55A6047 | Original | May 11, 2009.
A300-55A6047 | 01 | July 8, 2009.
A310-55A2048 | Original | May 11, 2009.
A310-55A2048 | 01 | July 8, 2009.

(k) For rudders on which temporary restoration with resin or permanent vacuum loss hole restoration has been done in accordance with the applicable service bulletin specified in Table 2 of this AD, as required in paragraph (g)(9) or (h)(9) of this AD, before the effective date of this AD: Within 4,500 flight cycles from the restoration date, do an ultrasonic inspection for defects, including debonding of the reinforced area, in accordance with Airbus AOT A310-55A2048 or AOT A300-55A6047, both Revision 02, both dated October 12, 2009, as applicable. If any defect is found, before further flight, contact Airbus for repair instructions and do the repair.

(l) After the effective date of this AD, no person may install any rudder listed in Table 1 of this AD on any airplane, unless the rudder has been inspected and all applicable corrective actions have been done in accordance with paragraph (g) or (h) of this AD.

FAA AD Differences

Note 3: This AD differs from the MCAI and/or service information as follows: No differences.

Other FAA AD Provisions

(m) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(n) Refer to MCAI European Aviation Safety Agency (EASA) Airworthiness Directive 2010-0002, dated January 5, 2010; Airbus AOT A310-55A2048, Revision 02, dated October 12, 2009; and Airbus AOT A300-55A6047, Revision 02, dated October 12, 2009; for related information.

Material Incorporated by Reference

(o) You must use Airbus All Operators Telex A300-55A6047, Revision 02, dated October 12, 2009; or Airbus All Operators Telex A310-55A2048, Revision 02, dated October 12, 2009; as applicable; to do the actions required by this AD, unless the AD specifies otherwise. (The document number, revision level, and date appear only on page 1 of the AOTs; no other page of these documents contains this information)

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet: http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 28, 2010.
Ali Bahrami,
Manager, Transport Airplane Directorate, Aircraft Certification Service.

[FR Doc. 2010-19327 Filed 8-12-10; 8:45 am]

BILLING CODE 4910-13-P